FEDERAL TRADE COMMISSION

Agency Information Collection Activities; Submission for OMB Review; Comment Request

AGENCY: Federal Trade Commission.

ACTION: Notice.

SUMMARY: The Federal Trade Commission (“FTC” or “Commission”) requests that the Office of Management and Budget (“OMB”) extend for an additional three years the current Paperwork Reduction Act (“PRA”) clearance pertaining to the Commission's administrative activities, consisting of: (a) Responding to applications to the Commission pursuant to the Commission's Rules of Practice (Parts 1 and 4); (b) the FTC's consumer reporting systems; and (c) the FTC's program evaluation activities. That clearance expires on May 31, 2021.

DATES: Comments must be filed by June 2, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: Kenny Wright, Attorney, Office of the General Counsel, (202) 326-2907, 600 Pennsylvania Ave. NW, Washington, DC 20580.

SUPPLEMENTARY INFORMATION: Title of Collection: FTC Administrative Activities.

OMB Control Number: 3084-0169.

Type of Review: Extension of a currently approved collection.

Affected Public: Private Sector: Businesses and other for-profit entities.

Abstract: The FTC collects information to carry out its administrative responsibilities pursuant to its Rules of Practice. Any person, partnership, or corporation may request advice from the Commission or FTC staff regarding a course of action the requester contemplates. The Commission's rules require requesters to provide the information necessary to facilitate resolution of the requests, including information on the question to be resolved, the identity of the companies or persons involved, and other material facts. See FTC Rule 1.2, 16 CFR 1.2. In addition, the FTC's ethics regulations require former employees who are seeking ethical clearance to participate in FTC matters to submit screening affidavits to facilitate resolution of their requests. See FTC Rule 4.1(b), 16 CFR 4.1(b). These requirements prevent the improper use of confidential nonpublic information acquired while working at the FTC. The Commission's Rules of Practice also authorize outside parties to request employee testimony, through compulsory process or otherwise, and to request documentary material through compulsory process in cases or matters to which the agency is not a party. See FTC Rule 4.11(e), 16 CFR 4.11(e). These rules require persons seeking testimony or material from the Commission to submit a statement in support of the request setting forth the party's interest in the case or matter, the relevance of the desired testimony or material, and a discussion of whether it is reasonably available from other sources.

The FTC also allows consumers to report fraud, identity theft, National Do Not Call Registry violations, and other violations of law through telephone hotlines and three online consumer report forms. Consumers may call a hotline phone number or log on to the FTC's website to report violations using the applicable reporting forms. The provision of this information is voluntary. The FTC also conducts customer satisfaction surveys regarding the support that the Commission's Consumer Response Center provides to consumers to obtain information about the overall effectiveness of the call center and online complaint intake forms.

The FTC also conducts evaluations of its competition advocacy program and the effectiveness of its merger divestiture orders. The FTC's Competition Advocacy Program draws on the Commission's expertise in competition and consumer protection matters to encourage federal and state legislatures, courts, and other state and federal agencies to consider the effects of proposed actions on consumers and competition. Statutory authority for the advocacy program is found in part in sections 6(a) and (f) of the FTC Act. 15 U.S.C. 46(a) and (f). In addition, following an order of divestiture in a merger matter, the FTC's Bureau of Competition's Compliance Division conducts brief calls with acquirers of divested assets to assess the effectiveness of these divestitures.

Estimated Annual Burden Hours: 452,318 hours.

Estimated Annual Labor Costs: $26,890.

Estimated Annual Non-Labor Costs: $0.

Request for Comment: On January 11, 2021, the Commission sought comment on the information collection requirements associated with the FTC's Administrative Activities. 86 FR 1971 (Jan. 11, 2021). No relevant comments were received. Pursuant to the OMB regulations, 5 CFR part 1320, the FTC is providing this second opportunity for public comment while seeking OMB approval to renew clearance for the Rule's information collection requirements.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16 CFR 4.10(a)(2). In particular, do not include competitively sensitive information such as costs, sales statistics, inventories, formulas, patterns devices, manufacturing processes, or customer names.

Josephine Liu,
Assistant General Counsel for Legal Counsel.

[FR Doc. 2021-09225 Filed 4-30-21; 8:45 am]

BILLING CODE 6750-01-P